ANTITRUST MODERNIZATION COMMISSION

Notice of Public Hearings

AGENCY: Antitrust Modernization Commission.

ACTION: Notice of public hearings.

SUMMARY: The Antitrust Modernization Commission will hold public hearings on July 28, 2005. The topics of the hearings are the Robinson-Patman Act and certain civil remedies issues.

DATES: July 28, 2005, 9:15 a.m. to 11:30 a.m. and 12:30 p.m. to 5 p.m. Interested members of the public may attend. Registration is not required.

ADDRESSES: Federal Trade Commission, Conference Center, 601 New Jersey Avenue, NW., Washington, DC.

FOR FURTHER INFORMATION CONTACT: Andrew J. Heimert, Executive Director & General Counsel, Antitrust Modernization Commission: telephone: (202) 233-0701; e-mail: info@amc.gov. Mr. Heimert is also the Designated Federal Officer (DFO) for the Antitrust Modernization Commission.

SUPPLEMENTARY INFORMATION: The purpose of these hearings is for the Antitrust Modernization Commission to take testimony and receive evidence regarding the Robinson-Patman Act and certain civil remedies issues. The hearing on the Robinson-Patman Act will consist of one panel. It will begin at 9:15 a.m. and adjourn at 11:30 a.m. The hearing on civil remedies issues will consist of two panels. The first civil remedies panel will address damages multipliers, attorneys' fees, and prejudgment interest. The panel will begin at 12:30 p.m. and run until 3 p.m. The second civil remedies panel will address joint and several liability, contribution, and claim reduction, and will run from 3 p.m. to 5 p.m. Materials relating to the hearings, including lists of witnesses and the prepared statements of the witnesses, will be made available on the Commission's Web site (http://www.amc.gov) in advance of the hearings. The starting time for the panel on Robinson-Patman Act is approximate, as the Commission will be holding a public meeting beginning at 9 a.m., the notice of which is published elsewhere in this issue of the Federal Register.

Interested members of the public may submit written testimony on the subject of the hearing in the form of comments, pursuant to the Commission's request for comments. See 70 FR 28,902 (May 19, 2005). Members of the public will not be provided with an opportunity to make oral remarks at the hearings.

The AMC is holding this hearing pursuant to its authorizing statute. Antitrust Modernization Commission Act of 2002, Pub. L. 107-273, § 11057(a), 116 Stat. 1758, 1858.

Dated: June 24, 2005.
By direction of the Antitrust Modernization Commission.
Andrew J. Heimert,
Executive Director & General Counsel, Antitrust Modernization Commission.

[FR Doc. 05-12872 Filed 6-29-05; 8:45 am]

BILLING CODE 6820-YM-P